ENVIRONMENTAL PROTECTION AGENCY

40 CFR Part 261

[SW-FRL-8001-7]

Hazardous Waste Management System; Identification and Listing of Hazardous Waste Amendment

AGENCY: Environmental Protection Agency, (EPA).

ACTION: Final rule; amendment.

SUMMARY: The EPA (also, “the Agency” or “we”) is amending an existing exclusion to reflect changes in ownership and name for the Vulcan Materials Company (Vulcan), Port Edwards, Wisconsin. Today's amendment documents these changes.

DATES: This amendment is effective on November 25, 2005.

FOR FURTHER INFORMATION CONTACT: Todd Ramaly by phone at (312) 353-9317, by mail at 77 W. Jackson Blvd., Mail Code DW-8J, Chicago, Illinois 60604, or by e-mail at <ramaly.todd@epa.gov>.

SUPPLEMENTARY INFORMATION: In this document EPA is amending appendix IX to part 261 to reflect a change in the status of a particular exclusion. The petition process under 40 Code of Federal Regulations (40 CFR) 260.20 and 260.22 allows facilities to demonstrate that a specific waste from a particular generating facility should not be regulated as a hazardous waste. Based on waste-specific information provided by the petitioner, EPA granted an exclusion for treated K071, brine purification muds, to Vulcan Materials Company, Port Edwards, Wisconsin (51 FR 41486, November 17, 1986).

On July 12, 2005, the Agency was notified by Vulcan that ownership of the facility in Port Edwards, Wisconsin had been transferred to ERCO Worldwide (USA) Inc. (ERCO). On July 18, 2005, ERCO certified it will meet all terms and conditions set forth in the delisting and will not change the characteristics of the waste or the K071 treatment process at the Port Edwards facility without prior Agency approval. Today's notice documents this change by updating appendix IX to incorporate this change in name.

These changes to appendix IX of part 261 are effective November 25, 2005. The Hazardous and Solid Waste Amendments of 1984 amended section 3010 of the Resource Conservation and Recovery Act (RCRA) to allow rules to become effective in less than six months when the regulated community does not need the six-month period to come into compliance. As described above, the facility has certified that it is prepared to comply. Therefore, a six-month delay in the effective date is not necessary in this case. This provides the basis for making this amendment effective immediately upon publication under the Administrative Procedures Act pursuant to 5 United States Code (U.S.C.) 5531(d).

List of Subjects in 40 CFR Part 261

Environmental protection, Hazardous waste, Recycling, and Reporting and recordkeeping requirements.

Authority: Sec. 3001(f) RCRA, 42 U.S.C. 6921(f).

Dated: November 15, 2005.
Margaret M. Guerriero,
Director, Waste, Pesticides and Toxics Division.

For the reasons set out in the preamble, 40 CFR part 261 is amended as follows:

PART 261—IDENTIFICATION AND LISTING OF HAZARDOUS WASTE

1. The authority citation for part 261 continues to read as follows:

Authority: 42 U.S.C. 6905, 6912(a), 6921, 6922, and 6938.

2. Table 2 of Appendix IX of part 261 is amended by removing the “Vulcan Materials Company” entry and adding a new entry “ERCO Worldwide (USA) Inc. (formerly Vulcan Materials Company)” in alphabetical order by facility to read as follows:

Appendix IX to Part 261—Wastes Excluded Under §§ 260.20 and 260.22

Table 2.—Wastes Excluded From Specific Sources
Facility | Address | Waste description
* * * * * * *
ERCO Worldwide (USA) Inc. (formerly Vulcan Materials Company) | Port Edwards, Wisconsin | Brine purification muds (EPA Hazardous Waste No. K071) generated from the mercury cell process in chlorine production, where separately purified brine is not used after November 17, 1986. To assure that mercury levels in this waste are maintained at acceptable levels, the following conditions apply to this exclusion: Each batch of treated brine clarifier muds and saturator insolubles must be tested (by the extraction procedure) prior to disposal and the leachate concentration of mercury must be less than or equal to 0.0129 ppm. If the waste does not meet this requirement, then it must be re-treated or disposed of as hazardous. This exclusion does not apply to wastes for which either of these conditions is not satisfied.
* * * * * * *

[FR Doc. 05-23230 Filed 11-23-05; 8:45 am]

BILLING CODE 6560-50-P